DEPARTMENT OF COMMERCE

International Trade Administration

Notice of Scope Ruling Applications Filed in Antidumping and Countervailing Duty Proceedings

AGENCY: Enforcement and Compliance, International Trade Administration, Department of Commerce.

SUMMARY: The U.S. Department of Commerce (Commerce) received scope ruling applications, requesting that scope inquiries be conducted to determine whether identified products are covered by the scope of antidumping duty (AD) and/or countervailing duty (CVD) orders and that Commerce issue scope rulings pursuant to those inquiries. In accordance with Commerce's regulations, we are notifying the public of the filing of the scope ruling applications listed below in the month of May 2023.

DATES: Applicable July 7, 2023.

FOR FURTHER INFORMATION CONTACT: Terri Monroe, AD/CVD Operations, Customs Liaison Unit, Enforcement and Compliance, International Trade Administration, U.S. Department of Commerce, 1401 Constitution Avenue NW, Washington, DC 20230, telephone: (202) 482-1384.

SUPPLEMENTARY INFORMATION:

Notice of Scope Ruling Applications

In accordance with 19 CFR 351.225(d)(3), we are notifying the public of the following scope ruling applications related to AD and CVD orders and findings filed in or around the month of May 2023. This notification includes, for each scope application: (1) identification of the AD and/or CVD orders at issue (19 CFR 351.225(c)(1)); (2) concise public descriptions of the products at issue, including the physical characteristics (including chemical, dimensional and technical characteristics) of the products (19 CFR 351.225(c)(2)(ii)); (3) the countries where the products are produced and the countries from where the products are exported (19 CFR 351.225(c)(2)(i)(B)); (4) the full names of the applicants; and (5) the dates that the scope applications were filed with Commerce and the name of the ACCESS scope segment where the scope applications can be found.¹ This notice does not include applications which have been rejected and not properly resubmitted. The scope ruling applications listed below are available on Commerce's online e-filing and document management system, Antidumping and Countervailing Duty Electronic Service System (ACCESS), at https://access.trade.gov.

¹ See Regulations to Improve Administration and Enforcement of Antidumping and Countervailing Duty Laws, 86 FR 52300, 52316 (September 20, 2021) (Final Rule) (“It is our expectation that the Federal Register list will include, where appropriate, for each scope application the following data: (1) identification of the AD and/or CVD orders at issue; (2) a concise public summary of the product's description, including the physical characteristics (including chemical, dimensional and technical characteristics) of the product; (3) the country(ies) where the product is produced and the country from where the product is exported; (4) the full name of the applicant; and (5) the date that the scope application was filed with Commerce.”)

Scope Ruling Applications

Certain Vertical Shaft Engines Between 99cc and Up to 225cc and Parts Thereof from the People's Republic of China (China) (A-570-124/C-570-125); Ducar DVO 150 Engine; ² produced in and exported from China; submitted by Seago, Inc.; May 10, 2023; ACCESS scope segment “Ducar DVO150.”

² The product is a 150cc engine with a seven-point mounting bracket, with integrated cable guide, built into the aluminum crankcase. It has integrated fuel pump and the capability for sustained operation at 45-degree slope. The HTSUS code is 8407.90.9040.

Certain Quartz Surface Products from China (A-570-084/C-570-085); Mineral Based Surface Products; ³ produced in and exported from China; submitted by Vanguard Trading Company; May 12, 2023; ACCESS scope segment “Mineral-based surface products.”

³ The product is Fritech, a waste mineral-based surface product produced from silicate materials where Silicon Dioxide/Silica is not the material of chief weight. The slab is produced in large slabs with dimensions of approximately 63” by 126”. Finished slab is either 20mm or 30mm thick and mimics the feel and appearance of natural stone such as marble.

Certain Cold-Rolled Steel Flat Products from India (A-533-865/C-570-866); End Module Side Cover and Cable Tray Connection Bracket; ⁴ produced in and exported from India; submitted by SIGMA Corp.; May 19, 2023; ACCESS scope segment “Side Cover & Cable Tray Bracket.”

⁴ The two products are components of a modular battery storage assembly. The first product is described as an end module side cover, which is made by bending cold-rolled flat ASTEM A1008 grade steel into shape. Prior to bending the cold-rolled flat steel into shape, the product is hole-punched or laser cut. Three clinched nuts are also attached to the bent plate after forming. The product is powder coated with paint. The second product is described as a cable tray connection bracket, which is made by bending cold-rolled flat ASTEM A1008 grade steel into shape. The cable tray is bent into two right-angle brackets that, once adjoined, form a rectangle. Prior to bending the cold-rolled flat steel into shape, the product is hole punched or laser cut. The product is powder coated with paint. The final product includes accompanying size 18-8 stainless steel washers and passivated size 18-8 stainless steel, M4 x 0.70 mm threaded 16mm screws.

Certain Hot-Rolled Carbon Steel Flat Products from China (A-570-865); Front Foot and Front Foot Caster Assembly for Exercise Equipment; ⁵ produced in and exported from China; submitted by Concept2, Inc. (Concept2); May 25, 2023; ACCESS scope segment “Concept2 Front Foot and Caster Assembly.”

⁵ The products are two component parts of a stationary exercise bicycle. Part 7165 BikeErg Front Foot is made of 13GA, 2.278 mm thick hot-rolled pickled and oiled steel sheet, bent along its width four times to form a C shape with rounded corners. The finished part has punched hex holes and a powder coat finish. This component is 23.63 inches in length, 2.50 inches in width and 1.50 inches in height. Part 2465 Front Foot with Large Caster Assembly is an assembly comprising Part 7165, two casters, and fasteners. The foot caster assemblies each include a foot caster housing made of 10% glass-filled polypropylene, and a large hard rubber wheel, held together with a stainless steel retaining clip and clevis pin. These foot caster assemblies are installed on the ends of Part 7165 BikeErg Front Foot to form the completed Part 2465 Front Foot with Large Caster Assembly, which will be imported in assembled condition.

Fresh Garlic from China (A-570-831); whole garlic cloves in brine; ⁶ produced in and exported from China; submitted by Marcatus QED, Inc.; May 26, 2023; ACCESS scope segment “Marcatus.”

⁶ The product is processed whole garlic cloves preserved in brine that are blanched in boiling water and preserved in brine consisting of 20-25 percent salinity. Citric acid is added to the finished product as a preservative.

Notification to Interested Parties

This list of scope ruling applications is not an identification of scope inquiries that have been initiated. In accordance with 19 CFR 351.225(d)(1), if Commerce has not rejected a scope ruling application nor initiated the scope inquiry within 30 days after the filing of the application, the application will be deemed accepted and a scope inquiry will be deemed initiated the following day—day 31.⁷ Commerce's practice generally dictates that where a deadline falls on a weekend, Federal holiday, or other non-business day, the appropriate deadline is the next business day.⁸ Accordingly, if the 30th day after the filing of the application falls on a non-business day, the next business day will be considered the “updated” 30th day, and if the application is not rejected or a scope inquiry initiated by or on that particular business day, the application will be deemed accepted and a scope inquiry will be deemed initiated on the next business day which follows the “updated” 30th day.⁹

⁷ In accordance with 19 CFR 351.225(d)(2), within 30 days after the filing of a scope ruling application, if Commerce determines that it intends to address the scope issue raised in the application in another segment of the proceeding (such as a circumvention inquiry under 19 CFR 351.226 or a covered merchandise inquiry under 19 CFR 351.227), it will notify the applicant that it will not initiate a scope inquiry, but will instead determine if the product is covered by the scope at issue in that alternative segment.

⁸ See Notice of Clarification: Application of “Next Business Day” Rule for Administrative Determination Deadlines Pursuant to the Tariff Act of 1930, As Amended, 70 FR 24533 (May 10, 2005).

⁹ This structure maintains the intent of the applicable regulation, 19 CFR 351.225(d)(1), to allow day 30 and day 31 to be separate business days.

In accordance with 19 CFR 351.225(m)(2), if there are companion AD and CVD orders covering the same merchandise from the same country of origin, the scope inquiry will be conducted on the record of the AD proceeding. Further, please note that pursuant to 19 CFR 351.225(m)(1), Commerce may either apply a scope ruling to all products from the same country with the same relevant physical characteristics, (including chemical, dimensional, and technical characteristics) as the product at issue, on a country-wide basis, regardless of the producer, exporter, or importer of those products, or on a company-specific basis.

For further information on procedures for filing information with Commerce through ACCESS and participating in scope inquiries, please refer to the Filing Instructions section of the Scope Ruling Application Guide, at https://access.trade.gov/help/Scope_Ruling_Guidance.pdf. Interested parties, apart from the scope ruling applicant, who wish to participate in a scope inquiry and be added to the public service list for that segment of the proceeding must file an entry of appearance in accordance with 19 CFR 351.103(d)(1) and 19 CFR 351.225(n)(4). Interested parties are advised to refer to the case segment in ACCESS as well as 19 CFR 351.225(f) for further information on the scope inquiry procedures, including the timelines for the submission of comments.

Please note that this notice of scope ruling applications filed in AD and CVD proceedings may be published before any potential initiation, or after the initiation, of a given scope inquiry based on a scope ruling application identified in this notice. Therefore, please refer to the case segment on ACCESS to determine whether a scope ruling application has been accepted or rejected and whether a scope inquiry has been initiated.

Interested parties who wish to be served scope ruling applications for a particular AD or CVD order may file a request to be included on the annual inquiry service list during the anniversary month of the publication of the AD or CVD order in accordance with 19 CFR 351.225(n) and Commerce's procedures.¹⁰

¹⁰ See Scope Ruling Application; Annual Inquiry Service List; and Informational Sessions, 86 FR 53205 (September 27, 2021).

Interested parties are invited to comment on the completeness of this monthly list of scope ruling applications received by Commerce. Any comments should be submitted to James Maeder, Deputy Assistant Secretary for AD/CVD Operations, Enforcement and Compliance, International Trade Administration, via email to CommerceCLU@trade.gov.

This notice of scope ruling applications filed in AD and CVD proceedings is published in accordance with 19 CFR 351.225(d)(3).

Dated: June 30, 2023.
James Maeder,
Deputy Assistant Secretary for Antidumping and Countervailing Duty Operations.

[FR Doc. 2023-14392 Filed 7-6-23; 8:45 am]

BILLING CODE 3510-DS-P